DEPARTMENT OF HEALTH AND HUMAN SERVICES

Office of Inspector General

Program Exclusions: Correction

AGENCY: Office of Inspector General, HHS.

ACTION: Notice of program exclusions; correction.

SUMMARY: The HHS Office of Inspector General Published a document in the Federal Register of October 18, 2006, imposed exclusions. The document contained the incorrect monthly exclusions.

FOR FURTHER INFORMATION CONTACT: Jacqueline Freeman, (410) 786-5197.

Correction

In the Federal Register of October 18, 2006, in FR Doc. 71 FR 61485, on page 61492, The list was for the September 2006 exclusions. The correct exclusions for September 2006 should read:

Subject name, address | Effective date
PROGRAM-RELATED CONVICTION
ABAD, NILDA | 10/19/2006
ALPINE, CA
ALLISON, KEITH | 10/19/2006
LOS ANGELES, CA
ANDERSON, THEODORE | 10/19/2006
KINGSTON, WA
BOUCHARD, JOHN | 10/19/2006
PHILLIPSBURG, KS
BOUGHTON, LLOYD | 10/19/2006
LOS ANGELES, CA
BRAZIL, MICHAEL | 10/19/2006
ARLINGTON, VA
CACAL, ROQUE | 10/19/2006
LOS ANGELES, CA
CACAL, ROSA | 10/19/2006
LOS ANGELES, CA
CARDILLO, JOHN | 10/19/2006
BERKELEY HEIGHTS, NJ
DELATOUR, GREGORY | 10/19/2006
MIAMI, FL
DELGADO, JOSUE | 10/19/2006
BALDWIN PARK, CA
DODDS, KYLE | 10/19/2006
INDEPENDENCE, OR
EASON, KIM | 10/19/2006
FRESNO, CA
EDWARDS, PHYLLIS | 10/19/2006
HAMILTON, OH
EVANS, AMY | 10/19/2006
PATASKALA, OH
FINLEY, SANDRA | 10/19/2006
OKLAHOMA CITY, OK
FLORES, VERGIL | 10/19/2006
MESQUITE, TX
FRANK, PAUL | 10/19/2006
FORT DIX, NJ
GALLEGOS, JODY | 10/19/2006
THORNTON, CO
GORDON, RICHARD | 10/19/2006
SURPRISE, AZ
GOTTSCHALL, ZAY | 10/19/2006
BUTTE, MT
HABEEB, GREGORY | 10/19/2006
CLARK SUMMIT, PA
HARRIS, KATRINA | 10/19/2006
NILES, OH
HARRIS, TAMMY | 10/19/2006
AUSTIN, TX
HARTSFIELD, ARCHIE | 10/19/2006
EL PASO, TX
HERIC, THOMAS | 10/19/2006
HAWTHORNE, CA
HERNANDEZ, JOSE | 10/19/2006
MIAMI, FL
HOLSAN, JASON | 10/19/2006
GRAND JUNCTION, CO
HOVATTER, KATHY | 10/19/2006
PARMA, OH
ISHAK, MAHER | 10/19/2006
HARRIMAN, NY
JOHNSON, SHELIA | 10/19/2006
SARDINIA, OH
JONES, WANDA | 10/19/2006
YOUNGSTOWN, OH
LAZARO, JUAN | 10/19/2006
WESTBROOK, ME
LUETTGEN, TAMMIE | 10/19/2006
ALLENTOWN, PA
MALAHIMOV, BORIS | 10/19/2006
BRADFORD, PA
MALCOLM-FORBES, SONIA | 10/19/2006
COLUMBUS, OH
MAYHUGH, JEFFREY | 10/19/2006
THORNVILLE, OH
MORTON, GEORGE | 10/19/2006
PHENIX, VA
PARKER, ROGER | 10/19/2006
HAMPTON, VA
PETERSON, RENE | 10/19/2006
DES MOINES, IA
REISBORD, DAVID | 10/19/2006
LOS ANGELES, CA
RUMMELT, HERMAN | 10/19/2006
DULUTH, MN
SERRANO, SUSAN | 10/19/2006
DUBLIN, CA
SHUMAKER, MARY | 10/19/2006
SARDINIA, OH
SISNEY, DEBRA | 10/19/2006
BULL SHOALS, AR
SOLIS, MARY | 10/19/2006
WEST COVINA, CA
SPEARS, RAMESHIA | 10/19/2006
GRANDVIEW, MO
SPEIGHT, DIANNA | 10/19/2006
LAS VEGAS, NV
STATLER, JOHN | 10/19/2006
DAYTON, OH
STIMPSON, RIETA | 10/19/2006
HELENA, MT
WALLED, RAFAEL | 7/5/2006
MIAMI, FL
WALLERICK, MELANIE | 10/19/2006
YOUNGSTOWN, OH
WILLIAMS, DRANETTA | 10/19/2006
GATESVILLE, TX
WILLIAMS, HENRY | 10/19/2006
HUNTSVILLE, TX
WOODBURY PHARMACY, INC | 10/19/2006
HARRIMAN, NY
FELONY CONVICTION FOR | HEALTH CARE FRAUD
BAILEY, LLEWELLYN | 10/19/2006
ROSEDALE, NY
BALL, HEIDI | 10/19/2006
SPRINGFIELD, OR
BATTERTON, CAROL | 10/19/2006
CHEYENNE, OK
BENTLEY, WILLIAM | 10/19/2006
MONROE, WA
BLEVINS, CHARLES | 10/19/2006
MONTGOMERY, AL
BOUGHTON, DARLA | 10/19/2006
COEUR D'ALENE, ID
CARTER, ANGEL | 10/19/2006
BASTEVILLE, AR
COULSON, ANDREA | 10/19/2006
ORANGE, CA
CRICHTON, SONJA | 10/19/2006
LITCHFIELD PARK, AZ
DECKER, CAROLINE | 10/19/2006
BOULDER, CO
FARR, CHARLENE | 10/19/2006
SWANTON, VT
FULKERSON, JANET | 10/19/2006
TEMPLE, TX
GONZALEZ, JOSEPH | 10/19/2006
MIAMI BEACH, FL
HARRIS, APRIL | 10/19/2006
PHOENIX, AZ
HARRIS, JOAN | 10/19/2006
FONTANA, CA
HENNEKES, ZACHARY | 10/19/2006
CINCINNATI, OH
KOWALSKI, KAREN | 10/19/2006
DENVER, CO
LANDIN, ALICIA | 10/19/2006
WESTMINSTER, CO
LIEN, JONATHAN | 10/19/2006
SAN JOSE, CA
MELTON, LINDA | 10/19/2006
CENTRAL POINT, OR
MOSS, MARGO | 10/19/2006
NORWALK, IA
NGUYEN, DENNIS | 10/19/2006
ELK GROVE, CA
ORZO, BILLIE | 10/19/2006
ALLIANCE, OH
POLZINE, ANTHONY | 10/19/2006
SAN ANTONIO, TX
SCHEMPP, JOANNE | 10/19/2006
KENT, OH
TAYLOR, MISTY | 10/19/2006
STRATFORD, OK
WILLIS, JACQUELYN | 10/19/2006
FAIRFIELD, OH
WOODRAL, JANNETTE | 10/19/2006
HEAVENER, OK
ZENTZ, NANCY | 10/19/2006
CLARKSVILLE, IN
ZOLOTAREVA, ELLA | 10/19/2006
BROOKLYN, NY
FELONY CONTROLLED SUBSTANCE CONVICTION
BAIKAUSKAS, LAURIE | 10/19/2006
PEARLAND, TX
BARNWELL, TERRI | 10/19/2006
BRIDGEPORT, TX
BEAVER, CHERYL | 10/19/2006
ELKHART, IN
CAMPBELL, TINO | 10/19/2006
BRIGHTON, CO
CONLEY, JAMES | 10/19/2006
FLATWOODS, KY
COPLEY, TIFFANY | 10/19/2006
LUBBOCK, TX
DONCASTER-LAWSON, PATRICIA | 10/19/2006
WILLIAMSBURG, KY
FEE, CATHERINE | 10/19/2006
EGG HARBOR CITY, NJ
GINGLE, MICHELLE | 10/19/2006
WESLEY CHAPEL, FL
HUTTON, JOANNA | 10/19/2006
HOCKESSIN, DE
KELLEY-WALLER, SUSAN | 10/19/2006
OVERTON, TX
KNOX, ROBERT | 10/19/2006
PRINCETON, WV
NAGY, HEATHER | 10/19/2006
PORT RICHEY, FL
PORTINGA, DONNA | 10/19/2006
WYLIE, TX
RUPARD, LORA | 10/19/2006
SHEPHERSVILLE, KY
SANDLIN, JENNIFER | 10/19/2006
ANCHORAGE, AK
SZURGOT, LONDA | 10/19/2006
JOSHUA, TX
WAGMAN, PHILIP | 10/19/2006
CAMP HILL, PA
WHITE, TRACY | 10/19/2006
IOWA CITY, IA
YELTON, DEBRA | 10/19/2006
NEVADA CITY, CA
PATIENT ABUSE/NEGLECT CONVICTION
AKTHAR, WAHEED | 10/19/2006
HOUSTON, TX
ALEXANDER, JASMINE | 10/19/2006
LITTLETON, CO
ALLDREDGE, JOYCE | 10/19/2006
NEWBERG, OR
BELTRAN, RICARDO | 10/19/2006
WHITTIER, CA
BOYCE, EMILY | 10/19/2006
AMITYVILLE, NY
CLARK, WILLIAM | 10/19/2006
BALLWIN, MO
CLOUGH, KRISTEN | 10/19/2006
PORTSMOUTH, NH
DUVALL, DONNA | 10/19/2006
LOCO, OK
ELMORE, ASHLEY | 10/19/2006
BETHANY, OK
EVANS, JOHN | 10/19/2006
HARDWICK, GA
GREENBERG, WILLIAM | 10/19/2006
WEST BLOOMFIELD, MI
GRIMES, BETTY | 10/19/2006
GLENDORA, CA
HAECK, MARGARET | 10/19/2006
LANSING, MI
HAMED, JILL | 10/19/2006
COPPERAS COVE, TX
HARTKOPF, PAMELA | 10/19/2006
ROTHSCHILD, WI
HENRY, JESSE | 10/19/2006
ALBUQUERQUE, NM
KATHPAL, GURBACHAN | 10/19/2006
CANONSBURG, PA
KNEELAND, ASHLEY | 10/19/2006
JAY, OK
KONADU, OFORI | 10/19/2006
COLUMBUS, OH
LARKIN, PATRICIA | 10/19/2006
GUTHRIE, OK
LOESER, PETER | 10/19/2006
FRANKLIN, NH
MAGANA, IGNACIO | 10/19/2006
JUPITER, FL
MASSEY, TRACI | 10/19/2006
CANTON, OH
MESSER, KIMBERLY | 10/19/2006
CORINTH, MS
PARKER, COURTNEY | 10/19/2006
CHICKASHA, OK
SANDERS, MICHAEL | 10/19/2006
NEWTON, NJ
SHOLES, MARK | 10/19/2006
SAINT PETERSBURG, FL
SINGLETON, EMILY | 10/19/2006
MIAMI, FL
SNIDER, CHARLES | 10/19/2006
PORTLAND, OR
SPEARS, VIRGINIA | 10/19/2006
ROSEVILLE, CA
STANG, ROBERT | 10/19/2006
KINGSLEY, MI
THOMPSON, COLLEEN | 10/19/2006
ROCKVILLE, MD
TROTTIER, PATRICIA | 10/19/2006
LANCASTER, NH
VILLAREAL, JULIUS | 10/19/2006
CHULA VISTA, CA
WILLIAMSEN, JEFFREY | 10/19/2006
MT PLEASANT, IA
WRIGHT, JOSEPH | 10/19/2006
AUGUSTA, WV
WUELLEH, JAMES | 10/19/2006
COLUMBUS, OH
YATES, GEORGE | 10/19/2006
STERLING, CO
CONVICTION FOR HEALTH CARE FRAUD
ASHLEY, PEGGY | 10/19/2006
MAYFLOWER, AR
BASSETT, SARA | 10/19/2006
LEON, IA
GURUNIAN, TIFFANY | 10/19/2006
BOSSIER CITY, LA
PINKHAM, JENNIFER | 10/19/2006
CANAAN, ME
LICENSE REVOCATION/SUSPENSION/SURRENDER
ABRAMS, BRUCE | 10/19/2006
LEXINGTON, KY
ALDRICH, JOYCE | 10/19/2006
PARKER, CO
ANDERSON, PEGGY | 10/19/2006
STANWOOD, WA
ANDERSON-STRATTON, JAIMEE | 10/19/2006
OGDEN, UT
BABINEAU, MARSHA | 10/19/2006
SURPRISE, AZ
BADER, RALPH | 10/19/2006
TAFT, CA
BALLENTINE, SALLY | 10/19/2006
ARLINGTON, TX
BATES, WILLIAM | 10/19/2006
MONTICELLO, FL
BEAUDOIN, PATRICIA | 10/19/2006
HOUSTON, TX
BELIN, MARY | 10/19/2006
CORONA, CA
BENASFRE, SANDERSON | 10/19/2006
WILMINGTON, CA
BEVINS, ELIZABETH | 10/19/2006
WINCHESTER, KY
BIRD, CHARLES | 10/19/2006
ALTAMONTE SPRINGS, FL
BOTEO, AURA | 10/19/2006
S. SAN FRANCISCO, CA
BOTKIN, JENNIFER | 10/19/2006
FRENCHTOWN, MT
BOUCHARD, ROXANNE | 10/19/2006
ENFIELD, CT
BOUTACOFF, MARIA | 10/19/2006
FAIRFAX, CA
BOYNTON, HOLLY | 10/19/2006
EVANSTON, WY
BRADBURN, JAMIE | 10/19/2006
GOLDEN, CO
BRECKEN, SIGRID | 10/19/2006
OLD ORCHARD BEACH, ME
BRISTOL, KENNETH | 10/19/2006
FLAGSTAFF, AZ
BROWN, KELLY | 10/19/2006
FT OGLETHORPE, GA
BROWNE, CLINTON | 10/19/2006
GAINESVILLE, FL
BROWNING, MICHELLE | 10/19/2006
WESTMINSTER, CO
BRUNELLE, ELIZABETH | 10/19/2006
TUCSON, AZ
BRUNNER, MARY | 10/19/2006
DENVER, CO
BUCKLAND, DEANNA | 10/19/2006
ROCHESTER, NY
BUSCHER, RICHARD | 10/19/2006
YAKIMA, WA
BUSEY, REBECCA | 10/19/2006
SHREVEPORT, LA
CACHUELA, DANILO | 10/19/2006
CHULA VISTA, CA
CARNEY, JOHN | 10/19/2006
BLUEFIELD, VA
CARPENTER, IZETTA | 10/19/2006
LOS GATOS, CA
CHAVEZ, YVETTE | 10/19/2006
LOCKEFORD, CA
CHIPMAN, BRENDA | 10/19/2006
AMERICAN FORK, UT
CHRAPA, EDEANE | 10/19/2006
E AURORA, NY
COHEN, STACIE | 10/19/2006
FRAMINGHAM, MA
COLEMAN, LYNDEE | 10/19/2006
PHILO, CA
COMBS, SANDRA | 10/19/2006
WHITE RIVER JUNCTION, VT
COMPTON, KATHRYN | 10/19/2006
PIKEVILLE, KY
CONLEY, TONY | 10/19/2006
HOLDENVILLE, OK
COON, JENNIFER | 10/19/2006
BINGHAMTON, NY
CROWLEY, CAITLIN | 10/19/2006
MANCHESTER, NH
CUDNEY, KATHI | 10/19/2006
EUREKA, CA
CYNEWSKI, KATELYN | 10/19/2006
EXETER, NH
CYPRESS, ROVET | 10/19/2006
HAMPTON, VA
DALLEY, MELISSA | 10/19/2006
WEST JORDAN, UT
DANIELS, STEPHANIE | 10/19/2006
TEMECULA, CA
DEVITO, DANIELLE | 10/19/2006
MECHANICVILLE, NY
DIAZ, CHRISTOPHER | 10/19/2006
GRAND JUNCTION, CO
DRAPER, SPENCER | 10/19/2006
CANYON LAKE, TX
DUFF, JONNA | 10/19/2006
OXNARD, CA
DUFFEY, DANNELL | 10/19/2006
VISALIA, CA
DUFFY, KATHY | 10/19/2006
GREENVILLE, TX
EARL, THEODORE | 10/19/2006
PITTSBURGH, PA
EASON, WALTER | 10/19/2006
JACKSONVILLE, AL
EDGE, NIKKI | 10/19/2006
YERINGTON, NV
EISENBERG, LAURA | 10/19/2006
PORT HENRY, NY
FALL, DONNA | 10/19/2006
PITTSBURGH, PA
FARMARTINO, ROCKY | 10/19/2006
HERMITAGE, PA
FIELDS, BRYAN | 10/19/2006
MISSOURI CITY, TX
FINCH, GHIA | 10/19/2006
INDIANAPOLIS, IN
FRANCOIS, IOLA | 10/19/2006
GADSDEN, AL
FRISBY, JODI | 10/19/2006
PAYSON, UT
GAINES, GINGER | 10/19/2006
TAMPA, FL
GARDNER, TODD | 10/19/2006
KANAB, UT
GERAGHTY, MARY | 10/19/2006
RUNNING SPRINGS, CA
GILLILAND, JAMES | 10/19/2006
VANCOUVER, WA
GISOLO, LINDA | 10/19/2006
MIDLAND, TX
GREEN, JUDITH | 10/19/2006
ESSEX JUNCTION, VT
GREER, JULIANA | 10/19/2006
MESA, AZ
HAHN, REBECCA | 10/19/2006
PHOENIX, AZ
HALL, LINDA | 10/19/2006
ANDERSON, IN
HALSTED, DAVID | 10/19/2006
TRAVERSE CITY, MI
HANGE, PAULEE | 10/19/2006
LANSDALE, PA
HANNA, DARWIN | 10/19/2006
BOLINGBROOK, IL
HANSEN, TAMMY | 10/19/2006
HUTTO, TX
HARRIS, JENNIFER | 10/19/2006
TEMPE, AZ
HARRIS, RICHARD | 10/19/2006
HENDERSONVILLE, NV
HARRIS, VISHUN | 10/19/2006
REDLANDS, CA
HERNANDEZ, SYLVIA | 10/19/2006
GLENDALE, AZ
HODGSON, MELISSA | 10/19/2006
OKLAHOMA CITY, OK
HOLLAND, ANGELICA | 10/19/2006
TUCSON, AZ
HOLZHAUSEN, KAREN | 10/19/2006
NORTH EAST, PA
HOPES, JAMES | 10/19/2006
ALEXANDER, AR
HOSKINS, VICKIE | 10/19/2006
BAXTER, KY
HUARD, KATHY | 10/19/2006
BROOKFIELD, MA
HUEBENER, CHRISTIANE | 10/19/2006
DES MOINES, IA
HUGHSON, KATHLEEN | 10/19/2006
RICHMOND, VA
HUNT, WAYNE | 10/19/2006
BROOKLYN, NY
HUTSON, TRACY | 10/19/2006
ABILENE, TX
JAMISON, LISA | 10/19/2006
ARANSAS PASS, TX
JEFFERSON, SHIRLEY | 10/19/2006
WAXAHACHIE, TX
JOHNSON, CHANIKA | 10/19/2006
LONGVIEW, TX
JOHNSON, ROBERT | 10/19/2006
DELTONA, FL
JOHNSTON, KELLIE | 10/19/2006
BLUE BELL, PA
JONES, LISA | 10/19/2006
MONTGOMERY, IN
JUAREZ, SANDRA | 10/19/2006
BUTTE, MT
KEEN, KIMBERLY | 10/19/2006
WHITNEY, TX
KING, PATRICIA | 10/19/2006
HOUSTON, TX
KLEIN, SHARON | 10/19/2006
JACKSONVILLE, FL
KOEN, SHAUN | 10/19/2006
HANSFORD, CA
KOLINSKY, BARBARA | 10/19/2006
BERLIN, NH
KRAEMER, LINDA | 10/19/2006
BLANDON, PA
KRIKSCIUN, DONNA | 10/19/2006
OAKDALE, CT
LA FAMILIA PHARMACY III, INC | 10/19/2006
MIAMI, FL
LA FAMILIA PHARMACY IV, INC | 10/19/2006
DEERFIELD BEACH, FL
LADD, ROBERT | 10/19/2006
WESTMORELAND, TN
LAFAYETTE, PATRICIA | 10/19/2006
BRISTOL, VT
LANCASTER, DAVID | 10/19/2006
SAINT GEORGE, UT
LANCASTER, MELISSA | 10/19/2006
ARCHBALD, PA
LANDERS, MARIBETH | 10/19/2006
KELLER, TX
LAPOINTE, DAVID | 10/19/2006
PROVIDENCE, RI
LAQUERRE, CHERI | 10/19/2006
WEST BARNSTABLE, MA
LATTERMAN, MICHAEL | 10/19/2006
MIAMI BEACH, FL
LAUBER, JANE | 10/19/2006
TUCSON, AZ
LEFAIVRE-KNUTSON, JULIE | 10/19/2006
OCALA, FL
LENTZ, BRIAN | 10/19/2006
DENVER, CO
LEWIS, FRANK | 10/19/2006
DAVIS, CA
LIMIDO, GLEN | 10/19/2006
MAYWOOD, NJ
LINEBARGER, NANCY | 10/19/2006
GUILD, NH
LO CASCIO, THOMAS | 10/19/2006
FLORAL PARK, NY
LOGAN, JOEL | 10/19/2006
NORWELL, MA
LOVATO, ANDREA | 10/19/2006
MONROE, NH
LOWMAN, BRIAN | 10/19/2006
OOLTEWAH, TN
LUCAS, KATINA | 10/19/2006
STATEN ISLAND, NY
LUCAS, KRISTI | 10/19/2006
ROANOKE, VA
LUCAS, LESLIE | 10/19/2006
BARRE, VT
MAGDELENA, EMILY | 10/19/2006
MARICOPA, AZ
MAGNON, CONSTANCE | 10/19/2006
ELMENDORF, TX
MANIG, MARK | 10/19/2006
COLORADO SPRINGS, CO
MARCH, LOIS | 10/19/2006
CORDELE, GA
MARRAZZO-TALLIA, CHRISTAL | 10/19/2006
FAIRHAVEN, NJ
MCGETTIGAN, MARY | 10/19/2006
PHILADELPHIA, PA
METIAM, FRANCROSENDO | 10/19/2006
SPARKS, NV
MILLER, CYNTHIA | 10/19/2006
NASHVILLE, TN
MILLER, TYLER | 10/19/2006
MANTI, UT
MITCHELL, JOSHUA | 10/19/2006
AUGUSTA, ME
MITCHELL, KENNETH | 10/19/2006
SANFORD, ME
MORALES, SUSAN | 10/19/2006
FLORESVILLE, TX
MORRIS, JANET | 10/19/2006
JELLICO, TN
MORRIS, THERESA | 10/19/2006
ROCHESTER, NY
MORRISON, HOLLY | 10/19/2006
WESTERVILLE, OH
NAZIR, KHALIL | 10/19/2006
ALBANY, NY
NELSON, J | 10/19/2006
SALT LAKE CITY, UT
NGUYEN, KHOA | 10/19/2006
SEATTLE, WA
NIELSEN, JAIMIE | 10/19/2006
JOHNSON, VT
NORRIS, DEBRA | 10/19/2006
DALLAS, TX
NORRIS, JO | 10/19/2006
KRUM, TX
NORWOOD, CAROLE | 10/19/2006
BENTON, TN
NURIAS LA FAMILIA PHARMACY | 10/19/2006
DEERFIELD BEACH, FL
OLIVER, BEVERLY | 10/19/2006
DONALDSONVILLE, LA
OLIVER, CRISTY | 10/19/2006
ALVIN, TX
OLMSTEAD, STEPHEN | 10/19/2006
SEATTLE, WA
ORNALES, JOEY | 10/19/2006
YOAKUM, TX
PARKER, ANDREA | 10/19/2006
NEWARK, NY
PARLANTE, DANIELLE | 10/19/2006
WILLIAMSPORT, PA
PASCO, MARITONE | 10/19/2006
HOUSTON, TX
PATURU, SUMATHI | 10/19/2006
BIRMINGHAM, AL
PETRIE, JENNIFER | 10/19/2006
CLEARLAKE, CA
PINA, DARLEEN | 10/19/2006
TEATICKET, MA
POOL-PARKER, MIKA | 10/19/2006
NORMAN, OK
PRIEM, LOREN | 10/19/2006
DENVER, CO
READ, BONNIE | 10/19/2006
SPRING HILL, FL
REDD, SHERRI | 10/19/2006
SENATOBIA, MS
REESE, CHRISTOPHER | 10/19/2006
CLINTON, NY
REHM, TODD | 10/19/2006
LAKE GEORGE, NY
ROCKE, DARCELLE | 10/19/2006
DENVER, CO
ROUSSEAU, JANET | 10/19/2006
MIDDLETON, NH
ROY, SUSAN | 10/19/2006
SHREWSBURY, MA
RUDOLPH, MELISSA | 10/19/2006
CANAL WINCHESTER, OH
SANDOVAL, MARIA | 10/19/2006
WACO, TX
SCHMITTLE, KARL | 10/19/2006
YORK, PA
SCOTT, SHARON | 10/19/2006
BRIDGEWATER, MA
SERTICH, PAMELA | 10/19/2006
HELOTES, TX
SHAPIRO, GARY | 10/19/2006
SANTA MONICA, CA
SHENKMAN, BERNARD | 10/19/2006
ALLENTOWN, PA
SILVA, MARLENE | 10/19/2006
WILTON, CA
SIMOLARIS, PAMELA | 10/19/2006
LOWELL, MA
SLAVIN, CARL | 10/19/2006
ANNAPOLIS, MD
SNOW, MICHAEL | 10/19/2006
WEST CHESTER, PA
SOMERVILLE, MICHAEL | 10/19/2006
SALT LAKE CITY, UT
SPILKER, BOBBI | 10/19/2006
WESTON, OH
STANLEY, TERESA | 10/19/2006
CONROE, TX
STECKEL, ELIZABETH | 10/19/2006
HUDSON, OH
STONE, MARY | 10/19/2006
LAKEWOOD, NJ
SUMMERSON, TAMMY | 10/19/2006
FAIRHOPE, AL
TERRIEN, MARGARET | 10/19/2006
BURLINGTON, VT
THOMAS, MARC | 10/19/2006
ALBUQUERQUE, NM
THOMPSON, VIOLET | 10/19/2006
LAFAYETTE, IN
TICE, FREDRICK | 10/19/2006
SAN ANTONIO, TX
TIPPETS, RANDY | 10/19/2006
OGDEN, UT
TOBAH, JAMES | 10/19/2006
MESA, AZ
TURNER, CLARENCE | 10/19/2006
WORCESTER, MA
UPCHURCH, YALINDA | 10/19/2006
GARLAND, TX
VALADEZ, STEPHEN | 10/19/2006
SIGNAL MOUNTAIN, TN
VAN DYKE, ALBERT | 10/19/2006
MANTI, UT
VINCENT, ERNIE | 10/19/2006
CLAYTON, CA
WALCZAK, CHRISTOPHER | 10/19/2006
MONTPELIER, VT
WALKER, PAMELA | 10/19/2006
AUSTIN, TX
WALTERS, BRENDA | 10/19/2006
ABILENE, TX
WATERS, MARK | 10/19/2006
CEDAR CITY, UT
WEISBACH, DAVID | 10/19/2006
OCEANSIDE, CA
WEISS, JUDITH | 10/19/2006
APTOS, CA
WELLS, MICHELLE | 10/19/2006
WACO, TX
WENZEL, STEPHEN | 10/19/2006
FORT WORTH, TX
WESLEY, MARILYN | 10/19/2006
LITTLE ROCK, AR
WHELAN, JOHN | 10/19/2006
LINDENHURST, NY
WHETSEL, SHARON | 10/19/2006
ALVIN, TX
WHITE, KENT | 10/19/2006
CHATTANOOGA, TN
WHITE, LINDA | 10/19/2006
ENID, OK
WILLIAMS, MATTHEW | 10/19/2006
LAWTEY, FL
WILLIAMS, ROBERT | 10/19/2006
BALTIMORE, MD
WRIGHT, CYNTHIA | 10/19/2006
CHANTILLY, VA
ZEIM, LISHA | 10/19/2006
SALT LAKE CITY, UT
ZINGARO, ROBERT | 10/19/2006
EL PASO, TX
FEDERAL/STATE EXCLUSION/SUSPENSION
ASCONA AMBULETTE SERVICE, INC | 10/19/2006
BROOKLYN, NY
MARTINEZ, ROSA | 10/19/2006
YAKIMA, WA
FRAUD/KICKBACKS/PROHIBITED ACTS/SETTLEMENT AGREEMENT
FERTAL, BRUCE | 8/7/2006
CANAL FULTON, OH
OWNED/CONTROLLED BY EXCLUDED/CONVICTED INDIVIDUAL
ACTIVE PAIN CLINIC, PA | 10/19/2006
NEW PORT RICHEY, FL
BRANDON MOBILITY, INC | 10/19/2006
W YARMOUTH, MA
EMA EYEWEAR, INC | 10/19/2006
HOLLYWOOD, FL
HERNANDO ANESTHESIA ASSOCIATES PA | 10/19/2006
WEEKI WACHEE, FL
HIGHLAND HILLS MANAGEMENT CORP | 10/19/2006
JESUP, GA
NATIONALITIES UNITED, INCORPORATED | 10/19/2006
LINCOLN, NE
PRO-VENTION CHIROPRACTIC PC | 10/19/2006
BETTENDORF, IA
ST LUCIE PAIN CENTER, INC | 10/19/2006
W PALM BEACH, FL
ZAKY-SHERREL MEDICAL CORPORATION | 10/19/2006
HUNTINGTON PARK, CA
DEFAULT ON HEAL LOAN
HERRING, CHARLES | 10/19/2006
FREMONT, CA
LANGSTON, MARTIN | 10/19/2006
BATON ROUGE, LA
PETRELL, ALICIA | 10/19/2006
PLYMOUTH, MA
PHIPPS, DONNA | 10/19/2006
LONGVIEW, TX
SATIR, SERVET | 10/19/2006
ORANGE, TX
CIVIL MONETARY PENAL LAW
RICHARDS, CHRISTINE | 4/25/2006
KNOXVILLE, IA

Dated: February 2, 2007.
Susan Earp,
Acting Director, Exclusions Staff, Office of Inspector General.

[FR Doc. E7-2081 Filed 2-7-07; 8:45 am]

BILLING CODE 4152-01-P